DEPARTMENT OF LABOR

Employment and Training Administration

[TA-W-58,800]

ABCO Rents of Clinton, Clinton, NC; Notice of Termination of Investigation

Pursuant to section 221 of the Trade Act of 1974, as amended, an investigation was initiated on February 7, 2006, in response to a worker petition filed by a company spokesman on behalf of workers at ABCO Rents of Clinton, Clinton, North Carolina.

The petitioner has requested that the petition be withdrawn. Consequently, the investigation has been terminated.

Signed at Washington, DC this 9th day of February 2006.
Elliott S. Kushner,
Certifying Officer, Division of Trade Adjustment Assistance.

[FR Doc. E6-3076 Filed 3-2-06; 8:45 am]

BILLING CODE 4510-30-P